NATIONAL ARCHIVES AND RECORDS ADMINISTRATION

[NARA-2026-008]

National Industrial Security Program Policy Advisory Committee (NISPPAC); Meeting

AGENCY: Information Security Oversight Office (ISOO), National Archives and Records Administration (NARA).

ACTION: Notice of Federal Advisory Committee meeting.

SUMMARY: We are announcing an upcoming National Industrial Security Program Policy Advisory Committee (NISPPAC) meeting in accordance with the Federal Advisory Committee Act and implementing regulations.

DATES: The meeting will be on March 18, 2026, 10am-2pm ET.

ADDRESSES: This meeting will be a hybrid of virtual and in person in Washington, DC in the McGowan Theater at 701 Constitution Ave. NW, Washington, DC 20002. See supplementary procedures below.

FOR FURTHER INFORMATION CONTACT: Heather Harris Pagán, ISOO Program Analyst, by telephone at 202.357.5351 or by email at ISOO@nara.gov. Contact ISOO at ISOO@nara.gov and the NISPPAC at NISPPAC@nara.gov.

SUPPLEMENTARY INFORMATION: This meeting is open to the public in accordance with the Federal Advisory Committee Act (5 U.S.C. app 2) and implementing regulations at 41 CFR 102-3. The Committee will discuss National Industrial Security Program policy matters.

Procedures: Members of the public must register in advance for the meeting through the Zoom for Gov https://www.zoomgov.com/webinar/register/WN_gIaepwaCTr6Iki_II9vdjQ#/registration if they wish to attend.

Merrily Harris,
Committee Management Officer.

[FR Doc. 2026-04214 Filed 3-3-26; 8:45 am]

BILLING CODE 7515-01-P